DEPARTMENT OF ENERGY

Request for Information (RFI) on Using a Consent-Based Siting Process To Identify Federal Interim Storage Facilities; Correction

AGENCY: Office of Spent Fuel and Waste Disposition, Office of Nuclear Energy, Department of Energy.

ACTION: Request for information; correction.

SUMMARY: On December 1, 2021, the Office of Nuclear Energy, Department of Energy, published a request for information in the Federal Register on how to site federal facilities for the temporary, consolidated storage of spent nuclear fuel using a consent-based approach. This document corrects broken hyperlinks to the Invitation for Public Comment and to the 2017 Draft Consent-Based Siting Process for Consolidated Storage and Disposal Facilities for Spent Nuclear Fuel and High-Level Radioactive Waste.

FOR FURTHER INFORMATION CONTACT: Please send any questions to consentbasedsiting@hq.doe.gov, or to Alisa Trunzo at 301-903-9600.

Correction

In the Federal Register of December 1, 2021, FR Doc. 2021-25724, (86 FR 68244) under the SUPPLEMENTARY INFORMATION section, the following corrections are made:

(1) First column, first paragraph, lines 9 thru 11, the weblink is corrected as follows:

https://www.energy.gov/sites/prod/files/2016/12/f34/Summary%20of%20Public%20Input%20Report%20FINAL.pdf.

(2) First column, first paragraph, lines 22 thru 25, the weblink is corrected as follows:

https://www.energy.gov/sites/prod/files/2017/01/f34/Draft%20Consent-Based%20Siting%20Process%20and%20Siting%20Considerations.pdf.

(3) First column, fourth paragraph, under the heading, Questions for Input, lines 9 thru 11, the weblink is corrected as follows:

https://www.energy.gov/sites/prod/files/2017/01/f34/Draft%20Consent-Based%20Siting%20Process%20and%20Siting%20Considerations.pdf.

(4) Second column, under the heading, Area 1: Consent-Based Siting Process, paragraph 7, the weblink is corrected as follows:

https://www.energy.gov/sites/prod/files/2017/01/f34/Draft%20Consent-Based%20Siting%20Process%20and%20Siting%20Considerations.pdf.

Reason for Correction: The change aims to fix the standard hyperlink format accepted by the FRN template.

Signing Authority

This document of the Department of Energy was signed on December 15, 2021, by Dr. Kathryn Huff, Principal Deputy Assistant Secretary for the Office of Nuclear Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 21, 2021.
Treena V. Garrett,
Federal Register Liaison Officer, U.S. Department of Energy.

[FR Doc. 2021-28009 Filed 12-23-21; 8:45 am]

BILLING CODE 6450-01-P